DEPARTMENT OF COMMERCE

National Oceanic and Atmospheric Administration

RIN 0648-XC794

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Groundfish Electronic Monitoring Committee and Ad Hoc Trawl Groundfish Electronic Monitoring Technical Advisory Committee (GEM Committees) will hold a work session, which is open to the public.

DATES: The meeting will be held August 20 and 21, 2013, from 8 a.m. until the earlier of 5 p.m. or when business for each day has been completed.

ADDRESSES: The meeting will be held at the Holiday Inn Portland Airport, Salon C Room, 8439 NE., Columbia Blvd. Portland, OR, 97220, telephone: 503-256-5000.

Council address: Pacific Council, 7700 NE., Ambassador Place, Suite 101, Portland, OR 97220-1384.

FOR FURTHER INFORMATION CONTACT: Mr. Brett Wiedoff, Staff Officer, Pacific Council: (503) 820-2280.

SUPPLEMENTARY INFORMATION: The primary purpose of the meeting is to discuss and develop potential alternatives for electronic monitoring (EM) for vessels participating in the West Coast groundfish trawl catch share program for consideration by the Pacific Council and to develop other recommendations as needed to further the Pacific Council process for considering EM. The GEM Committees were established by the Pacific Council at the June 2013 meeting in Garden Grove, California. No management actions will be decided at this meeting. The meeting will include review of the 2013 Trawl Catch Share Program EM Workshop Report and other reports to guide discussions. Although nonemergency issues not contained in the meeting agenda may come before the GEM committees for discussion, those issues may not be the subject of formal action during this meeting. The meeting will be restricted to those issues specifically listed in this notice and any issues arising after publication of this notice that require emergency action under section 305(c) of the Magnuson-Stevens Fishery Conservation and Management Act, provided the public has been notified of the GEM committees' intent to take final action to address the emergency. A meeting report will be prepared by Pacific Council staff for consideration by the Pacific Council at its September 2013 meeting in Boise, Idaho.

Special Accommodations

This meeting is physically accessible to people with disabilities. Requests for sign language interpretation or other auxiliary aids should be directed to Mr. Kris Kleinschmidt at (503) 820-2280 at least five days prior to the meeting date.

Dated: August 1, 2013.
Tracey L. Thompson,
Acting Deputy Director, Office of Sustainable Fisheries, National Marine Fisheries Service.

[FR Doc. 2013-18941 Filed 8-5-13; 8:45 am]

BILLING CODE 3510-22-P